DEPARTMENT OF TRANSPORTATION

Research and Special Programs Administration

[Docket No. RSPA-04-18975; Notice No. 04-009]

Safety Advisory: Unauthorized Marking of Compressed Gas Cylinders

AGENCY: Research and Special Programs Administration (RSPA), DOT.

ACTION: Safety advisory notice.

SUMMARY: This is to notify the public that RSPA has determined that a number of DOT specification compressed gas cylinders seized by the State of Maine, Department of Environmental Protection (MDEP), may have been marked as requalified in accordance with the HMR when the cylinders were not subjected to testing. During property seizure proceedings, MDEP took possession of numerous cylinders owned by Harry J. Smith, Jr., and his daughter, Dawn Smith, of Meddybemps, Maine, in accordance with a state mandated environmental clean-up of the Smiths' property. RSPA has gathered evidence that suggests the high-pressure DOT specification industrial gas cylinders owned by the Smiths may have been marked, certified and returned to service when the cylinders had not been properly requalified in accordance with the Hazardous Materials Regulations (HMR).

A hydrostatic retest and visual inspection are used to verify the structural integrity of compressed gas cylinders. If a hydrostatic retest and visual inspection are not performed within the time period required by the HMR, cylinders with compromised structural integrity may be returned to service when they should be condemned. Extensive property damage, serious personal injury, or death could result from rupture of a cylinder.

SUPPLEMENTARY INFORMATION: Through its investigation, RSPA believes that an undetermined number of DOT specifications cylinders owned by the Smiths may have been marked as having been requalified in accordance with the HMR, without being properly requalifed by an authorized retest facility. The HMR require that a cylinder requalification facility hold a current Retester Identification Number (RIN) issued by RSPA. The Smiths have never applied for or received a RIN, therefore they are not an authorized cylinder requalification facility.

Cylinders in the Smiths' possession were marked as having been requalified years after the corresponding RIN numbers had expired. RINs that expire and are not renewed by the authorized holder are never reissued to any other party. So far, RSPA discovered at least four examples of expired RIN markings during the course of its investigation. These RINs are as follows: (1) RIN B773, which expired on August 28, 1995 and was not renewed by the RIN holder, was marked on a cylinder represented as having been requalified in June 1999 and on a cylinder represented as having been requalified in July 1999; (2) RIN B775, which expired on December 4, 1991 and was not renewed, was marked on a cylinder represented as having been requalified in August 1999; (3) RIN B872, which expired on July 31, 1995 and was not renewed, was marked on cylinders represented as having been requalified in May 2000, May 2001, July 2001 and January 2002; and (4) A012, which expired on November 7, 1998 and was not renewed, was marked on a cylinder represented as having been requalified in September 1999.

The RIN and date of retest are marked on the shoulders of cylinders in the following pattern:

M is the month of retest (e.g., 12), and Y is the year of the retest (e.g., 04).

A RIN is read in a clockwise manner. For example, the above RIN pattern is for RIN A803.

This safety advisory covers all high-pressure DOT specification cylinders obtained from the Smiths or serviced by the Smiths at any time in the past. These cylinders may pose a safety risk to the public and should be considered unsafe for use in hazardous materials service until requalified by an authorized retest facility. Furthermore, cylinders described in this safety advisory must not be filled with a hazardous material unless the cylinders are first properly retested by an authorized retest facility. A list of authorized requalification facilities sorted by state or by RIN number may be obtained at RSPA's Web site: http://hazmat.dot.gov/files/approvals/hydro/hydro_retesters.htm.

FOR FURTHER INFORMATION CONTACT: Anthony Lima, Senior Hazardous Materials Enforcement Specialist, Eastern Region, Office of Hazardous Materials Enforcement, Research and Special Programs Administration, U.S. Department of Transportation, 820 Bear Tavern Road, Suite 306, West Trenton, NJ 08628. Telephone: (609) 989-2252.

Issued in Washington, DC on January 21, 2005.
Robert A. McGuire,
Associate Administrator for Hazardous Materials Safety.

[FR Doc. 05-1507 Filed 1-26-05; 8:45 am]

BILLING CODE 4910-60-P